DEPARTMENT OF DEFENSE

Office of the Secretary

[Docket ID: DOD-2009-HA-0186]

Proposed Collection; Comment Request

AGENCY: Office of the Assistant Secretary of Defense for Health Affairs, DoD.

ACTION: Notice.

SUMMARY: In compliance with section 3506(c)(2)(A) of the Paperwork Reduction Act of 1995, the Office of the Assistant Secretary of Defense for Health Affairs proposes a new public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 1, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: TRICARE Management Activity, TRICARE Overseas Program Branch, ATTN: Ms. Kimberly Stakes, 5111 Leesburg Pike, Suite 810, Falls Church, VA 22041-3206, or call 703- 681-0039.

Title; Associated Form; and OMB Number: Women, Infants and Children Overseas Participant Satisfaction Survey.

Needs and Uses: The information collection requirement is necessary to obtain the participants satisfaction levels with the services provided by the WIC overseas staff and the overall program. The findings from these surveys will be used to determine the success of the WIC overseas program and if improvements are necessary.

Affected Public: Individuals or Households.

Annual Burden Hours: 37.5.

Number of Respondents: 150.

Responses Per Respondent: 1.

Average Burden Per Response: 15 minutes.

Frequency: On occasion.

SUPPLEMENTARY INFORMATION:

Summary of Information Collection

Respondents are individuals who are currently receiving WIC overseas services. These respondents include military members and their dependents, and DoD civilians and contractors. The purpose of the WIC overseas survey is to assess the participant's satisfaction level with the services provided by the WIC overseas staff and the overall program. The survey includes questions regarding site access, customer service, quality of health information and overall program satisfaction. The findings of these surveys will be used to determine the success of the WIC overseas program and if improvements are necessary. The WIC overseas program is a legislatively mandated program and it is anticipated that the program will continue indefinitely. As such, DoD is publishing this formal notice.

Dated: December 23, 2009.
Mitchell S. Bryman,
Alternate OSD Federal Register Liaison Officer, Department of Defense.

[FR Doc. E9-30760 Filed 12-28-09; 8:45 am]

BILLING CODE 5001-06-P